ELECTION ASSISTANCE COMMISSION

Sunshine Act Notice

AGENCY: Election Assistance Commission.

ACTION: Notice of public meeting agenda.

DATE AND TIME: Tuesday, December 14, 2004, 10 a.m.-12 Noon.

PLACE: U.S. Election Assistance Commission, 1225 New York Ave., NW., Suite 1100, Washington, DC 20005. (Metro Stop: Metro Center.)

AGENDA: The Commission will receive updates and reports on the following: Title II Requirements Payments; Budget Update; EAC's 2005 HAVA Implementation Action Plan; Other Programmatic Updates and Administrative Matters.

PERSON TO CONTACT FOR INFORMATION: Bryan Whitener, Telephone: (202) 566-3100.

Gracia M. Hillman,
Vice-Chair, U.S. Election Assistance Commission.

[FR Doc. 04-26947 Filed 12-3-04; 12:37 pm]

BILLING CODE 6820-YN-M